NATIONAL TRANSPORTATION SAFETY BOARD

Sunshine Act Meeting

TIME AND DATE: 9:30 a.m., Tuesday, December 7, 2021.

PLACE: Virtual.

STATUS: The one item may be viewed by the public through webcast only.

MATTER TO BE CONSIDERED:

67694 Marine Accident Report—Hazardous Liquid Pipeline Strike and Subsequent Explosion and Fire Aboard Dredging Vessel Waymon Boyd, EPIC Marine Terminal, Corpus Christi Ship Channel, Corpus Christi, Texas, August 21, 2020.

CONTACT PERSON FOR MORE INFORMATION: Candi Bing at (202) 590-8384 or by email at bingc@ntsb.gov.

Media Information Contact: Jennifer Gabris by email at jennifer.gabris@ntsb.gov or at (202) 314-6100.

This meeting will take place virtually. The public may view it through a live or archived webcast by accessing a link under “Webcast of Events” on the NTSB home page at www.ntsb.gov.

There may be changes to this event due to the evolving situation concerning the novel coronavirus (COVID-19). Schedule updates, including weather-related cancellations, are also available at www.ntsb.gov.

The National Transportation Safety Board is holding this meeting under the Government in the Sunshine Act, 5 U.S.C. 552(b).

Dated: Monday, November 15, 2021.
Candi R. Bing,
Federal Register Liaison Officer.

[FR Doc. 2021-25158 Filed 11-15-21; 4:15 pm]

BILLING CODE 7533-01-P